DEPARTMENT OF COMMERCE

International Trade Administration

[A-583-835]

Certain Hot-Rolled Carbon Steel Flat Products From Taiwan: Rescission of Antidumping Duty Administrative Review; 2017/2018

AGENCY: Enforcement and Compliance, International Trade Administration, Department of Commerce.

DATES: Applicable August 1, 2019.

FOR FURTHER INFORMATION CONTACT: Michael J. Heaney, AD/CVD Operations, Office VI, Enforcement and Compliance, International Trade Administration, U.S. Department of Commerce, 1401 Constitution Avenue NW, Washington, DC 20230; telephone: (202) 482-4475.

SUPPLEMENTARY INFORMATION:

Background

On November 1, 2018, Commerce published in the Federal Register a notice of opportunity to request an administrative review of the antidumping duty order ¹ of certain hot- rolled carbon steel flat products from Taiwan for the period of review (POR) November 1, 2017 through October 31, 2018.² On November 30, 2018, Commerce received timely requests for administrative reviews from Steel Dynamics and SSAB Enterprises for the following companies: (1) An Fang Steel Co., Ltd., (An Fang); (2) Kao Hsing Chang Iron & Steel Corp (Kao Hsing); (3) Kao Hsuing Chang Iron and Steel Corp. (Kao Hsuing); (4) Shang Chen Steel Co., Ltd. (Shang Chen); and (5) Yieh Phui Enterprise Co., Ltd. (Yieh Phui), in accordance with section 751(a) of the Tariff Act of 1930, as amended (the Act), and 19 CFR.351.213(b).³ No other parties requested an administrative review. Pursuant to the review requests filed by Steel Dynamics and SSAB Enterprises, and in accordance with 19 CFR 351.221(c)(1)(i), on February 6, 2019, Commerce published in the Federal Register a notice of initiation of an administrative review covering An Fang, Kao Hsing, Kao Hsuing, Shang Chen, and Yieh Phui.⁴ On April 4, 2019, Steel Dynamics and SSAB Enterprises withdrew their review requests for administrative reviews for each of the companies named in their review request.⁵

¹ See Notice of Antidumping Duty Order; Certain Hot-Rolled Carbon Steel Flat Products from Taiwan, 66 FR 59563 (November 29, 2011).

² See Antidumping or Countervailing Duty Order, Finding, or Suspended Investigation; Opportunity to Request Administrative Review, 83 FR 54912 (November 1, 2018).

³ See Steel Dynamics and SSAB Enterprises Letter, “Certain Hot-Rolled Carbon Steel Flat Products from Taiwan: Request for Administrative Review,” dated November 30, 2018.

⁴ See Initiation of Antidumping and Countervailing Duty Administrative Reviews, 84 FR 2159 (February 6, 2019).

⁵ See Steel Dynamics and SSAB Enterprises Letter, “Withdrawal of Request for Administrative Review,” dated April 4, 2019.

Rescission of Review

Pursuant to 19 CFR 351.213(d)(1), Commerce will rescind an administrative review, in whole or in part, if the party, or parties, that requested a review withdraw the request/s within 90 days of the publication of the notice of initiation of the requested review. As noted above, Steel Dynamics and SSAB Enterprises withdrew their request for review by the 90-day deadline, and no other party requested an administrative review of this order. Therefore, in response to the timely withdrawal of the request for review, and, in accordance with 19 CFR 351.213(d)(1), Commerce is rescinding this administrative review in its entirety.

Assessment

Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Commerce intends to issue appraisement instructions to CBP 15 days after the publication of this notice in the Federal Register.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Order

This notice also serves as the only reminder to parties subject to administrative protective order (APO) of their responsibility concerning the return or destruction of proprietary information disclosed under APO in accordance with 19 CFR 351.305(a)(3). Timely written notification of the return or destruction of APO materials, or conversion to judicial protective order, is hereby requested. Failure to comply with the regulations and terms of an APO is a sanctionable violation.

This notice is published in accordance with section 771(i)(1) of the Act, and 19 CFR 351.213(d)(4)

Dated: July 22, 2019.
James Maeder,
Deputy Assistant Secretary for Antidumping and Countervailing Duty Operations.

[FR Doc. 2019-15922 Filed 7-31-19; 8:45 am]

BILLING CODE 3510-DS-P